POSTAL SERVICE

Notice of Intent To Prepare an Environmental Impact Statement for the Proposed Construction and Operation of a Mail Processing Facility in Aliso Viejo, CA

AGENCY: Postal Service.

ACTION: Notice.

SUMMARY: To comply with the requirements of the National Environmental Policy Act (NEPA), the Postal Service intends to prepare an Environmental Impact Statement (EIS) for the proposed construction and operation of a mail processing facility in Aliso Viejo, Orange County, California. The public is invited to participate in the project scoping process, to review and comment on the draft EIS, and to attend public meetings.

DATES: Please submit written scoping comments by March 9, 2008. This notice is the first step in the EIS process. A separate notice of availability will be issued when the draft EIS is available for public review.

To solicit public comments, a public scoping hearing will be held from 5:30 to 8:30 p.m. on February 27, 2008, at the Wood Canyon Elementary School, 23431 Knollwood Avenue, Aliso Viejo, California; (949) 448-0012.

ADDRESSES: To submit comments, request copies of the draft EIS or final EIS when available, or for more information, contact Emmy Andrews, Pacific Facilities Service Office, United States Postal Service, 395 Oyster Point Boulevard, Suite 225, South San Francisco, CA 94080-0300; (650) 615-7200.

FOR FURTHER INFORMATION CONTACT: Emmy Andrews, 650-615-7200.

SUPPLEMENTARY INFORMATION: To comply with the requirements of the National Environmental Policy Act (NEPA), the Postal Service intends to prepare an environmental impact statement (EIS) for the proposed construction and operation of a mail processing facility on a 25-acre parcel owned by the Postal Service at 50 Liberty, Aliso Viejo, Orange County, California. The EIS will be prepared in accordance with the National Environmental Policy Act (NEPA) of 1969, 42 U.S.C. 4321 et seq., the Council on Environmental Quality regulations for implementing NEPA, 40 CFR parts 1500-1508, the Postal Service regulations for implementing NEPA, 32 CFR part 775, and the Postal Service Facilities Environmental Guide (Handbook RE-6, November 2004).

The proposed project will improve regional mail handling logistics, expand delivery point processing capabilities and provide more efficient mail delivery services in southern Orange County.

The proposed facility would be approximately 342,726 square feet and would contain state-of-the-art automated mail processing systems. The facility would be constructed over an 18-month period during normal daytime hours Monday through Saturday. It would include a workroom, administrative space, and employee facilities, such as restrooms and break rooms. Grading of the site would be required to achieve a uniform site elevation. In addition to the facility, the site would include two gated access roads and parking areas for tractor/trailers and employee vehicles. Other site improvements include a retaining wall along the northern edge of the site, fencing, sidewalks and curbs, outdoor lighting, a facility sign, and landscaping. Existing trees and other vegetation on the western and northern edges would remain, as would vegetation along the steeply graded eastern and southern parts of the site.

An estimated 561 full-time employees spread over three work shifts would staff the facility. Typical facility activities would include unloading unsorted mail from delivery tractor/trailers, automated mail processing, loading delivery-sequenced mail onto delivery tractor/trailers, and general administration. The facility would operate continuously, 24 hours a day, 7 days a week. It would generate an estimated 74 tractor/trailer round trips during each 24-hour period.

Alternatives that will be evaluated by the Postal Service in the EIS include the above-described proposed action and a “No Action” alternative. Under the “No Action” alternative, the mail processing facility would not be constructed. The Postal Service may consider other alternatives in the EIS, including variations on the size or functions of the proposed facility, alternate locations for the proposed facility, and other reasonable alternatives identified during the public scoping process.

The Postal Service is seeking public input on the scope of environmental issues and the range of alternatives to be addressed in the EIS. To assist with this scoping effort, copies of an environmental assessment and draft supplemental environmental assessment previously prepared for this project are available at the Aliso Viejo Library, 1 Journey (949-360-1730). Those documents are also available electronically at http://www.alisoviejoeis.com. All comments previously received on the environmental assessment are being considered during development of the EIS.

Neva R. Watson,
Attorney, Legislative.

[FR Doc. E8-2581 Filed 2-11-08; 8:45 am]

BILLING CODE 7710-12-P